INTERNATIONAL TRADE COMMISSION

[Investigation Nos. 701-TA-448 and 731-TA-1117 (Final)]

Certain Off-the-Road Tires From China

AGENCY: United States International Trade Commission.

ACTION: Revised schedule for the subject investigations.

DATES: Effective Date: June 27, 2008.

FOR FURTHER INFORMATION CONTACT: Elizabeth Haines (202-205-3200), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective April 3, 2008, the Commission established a revised schedule for the conduct of the final phase of the subject investigations (73 FR 19249, April 9, 2008).

The Commission has decided to revise its schedule with respect to the starting time of the hearing and the date for filing posthearing briefs. The hearing will begin at 1 p.m., Tuesday, July 8, 2008. At that time, the Commission will hear the presentation of those in support of the imposition of countervailing and antidumping duties and will question that panel. At the conclusion of questioning by the Commission and others, the hearing will be recessed and will reconvene at 9:30 a.m., Wednesday, July 9, 2008. At that time, the Commission will hear the presentation of those in opposition to the imposition of countervailing and antidumping duties, to be followed by questioning of that panel. As a result of this change, posthearing briefs will be due Wednesday, July 16, 2008.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: June 30, 2008.
Marilyn R. Abbott,
Secretary to the Commission.

[FR Doc. E8-15139 Filed 7-3-08; 8:45 am]

BILLING CODE 7020-02-P